DEPARTMENT OF AGRICULTURE

7 CFR Part 15c

RIN 0503-AA57

Nondiscrimination on the Basis of Age in Programs or Activities Receiving Federal Financial Assistance From the U.S. Department of Agriculture

AGENCY: U.S. Department of Agriculture.

ACTION: Proposed rule.

SUMMARY: The U.S. Department of Agriculture (USDA) seeks to issue a Department-wide regulation to implement the Age Discrimination Act of 1975, as amended (“Age Act”), and the Government-wide age discrimination regulation promulgated by the U.S. Department of Health and Human Services (HHS). The Age Act and HHS regulations prohibit age discrimination in programs and activities receiving Federal financial assistance. The proposed rule intends to ensure compliance with the Age Act and HHS regulations and provide guidance to USDA agencies, employees, recipients, and beneficiaries on Age Act requirements. In the final rule section of this issue of the Federal Register, USDA is publishing this action as a direct final rule without prior proposal because USDA views this as a non-controversial action and expects no adverse comments. If no adverse comments are received in response to the direct final rule, no further action will be taken on this proposed rule, and the action will become effective at the time specified in the direct final rule. If USDA receives adverse comments, a timely document will be published withdrawing the direct final rule, and all public comments received will be addressed in a subsequent final rule based on this action.

DATES: Comments on this proposed action must be received by USDA or carry a postmark or equivalent no later than January 9, 2015.

ADDRESSES: Submit adverse comments on the proposed rule to Anna G. Stroman, Chief, Policy Division, by mail at Office of the Assistant Secretary for Civil Rights, 1400 Independence Avenue SW., Washington, DC 20250. You may also submit adverse comments on the Federal eRulemaking Portal at http://www.regulations.gov.

FOR FURTHER INFORMATION CONTACT: Anna Stroman at anna.stroman@ascr.usda.gov.

SUPPLEMENTARY INFORMATION: See SUPPLEMENTARY INFORMATION in the direct final rule located in the Rules and Regulations section of this issue of the Federal Register.

Dated: November 17, 2014.
Thomas J. Vilsack,
Secretary.

[FR Doc. 2014-28453 Filed 12-9-14; 8:45 am]

BILLING CODE P